FEDERAL COMMUNICATIONS COMMISSION

Notice of Public Information Collection(s) Being Reviewed by the Federal Communications Commission for Extension Under Delegated Authority, Comments Requested

April 6, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 13, 2000. If you anticipate that you will be submitting comments, but find it difficult to do so within the period of time allowed by this notice, you should advise the contact listed below as soon as possible.

ADDRESSES: Direct all comments to Les Smith, Federal Communications Commissions, Room 1 A-804, 445 Twelfth Street, SW, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0465.

Title: Section 74.985 Signal Booster Stations.

Form Number: None.

Type of Review: Revision of currently approved collection.

Respondents: Business or other for-profit, not-for-profit institutions.

Number of Respondents: 6,300.

Estimated time per response: 0.083 hours—8.25 hours (depending on requirements, this time is split between respondent, and legal consultant).

Total annual burden: 919 hours.

Total annual costs: $2,252,500.

Needs and Uses: Section 74.985(a) requires that MDS/ITFS booster stations obtain consent of affected cochannel licensees when the aggregate power flux density generated by a main station and all associated signal booster stations and all simultaneously operating cochannel response stations exceeds prescribed levels.

In addition to the information contained on FCC Form 331, Section 74.985(b) requires an applicant to submit any additional engineering data or showings, both in hard copy and on 3.5” computer diskettes in specified formats, and accompanying duplicates of the application forms, to the Commission's contractor for public service records duplication. By doing this, the engineering information will be available to all present and future affected parties.

Section 74.985(b) requires applicants for response station hubs/high power booster stations to serve a copy of the application and accompanying engineering materials on each potentially affected cochannel or adjacent channel party.

Section 74.985(d) requires that when an application for a high-power ITFS signal booster is granted, the licensee or conditional licensee maintain a copy of the application at the transmitter site or response station hub until such time as the Commission issues a license.

Section 74.985(e) requires that applicants for low-power MDS or ITFS signal booster stations must, within 48 hours after installation, submit to the Commission's contractor for public service records duplication duplicate hard copies of the FCC Form 331, and all engineering materials called for in Section 74.985(e) both in hard copy and on 3.5” computer diskettes.

Section 74.985(e)(iv) requires applicants for low power signal booster stations to serve a copy of the application and accompanying engineering materials on each potentially affected parties with protected services areas within an 8 kilometers radius.

Section 74.985(f) requires the conditional licensee of an ITFS response station hub/booster to file a letter informing the Commission of completion of construction of the hub/booster. The Commission has OMB approval for this requirement under the FCC Form 330-A (3060-0891).

The Commission and the public will use this information to ensure that MDS and ITFS applicants, conditional licensees and licensees have considered properly under the Commission's rules the potential for harmful interference from their facilities.

Federal Communications Commission.
Magalie Roman Salas,
Secretary.

[FR Doc. 00-9344 Filed 4-13-00; 8:45 am]

BILLING CODE 6712-01-P